DEPARTMENT OF LABOR

Employment and Training Administration

[TA-W-74,540]

Bmc Software, Inc. Including On-Site Leased Workers From COMSYS ITS Including Remote Workers Located Throughout the United States; Houston, TX; Amended Certification Regarding Eligibility To Apply for Worker Adjustment Assistance

In accordance with Section 223 of the Trade Act of 1974, as amended (“Act”), 19 U.S.C. 2273, the Department of Labor issued a Certification of Eligibility to Apply for Worker Adjustment Assistance on November 23, 2010, applicable to workers of BMC Software, Inc., including on-site leased workers from Comsys ITS, Houston, Texas. The workers are engaged in employment related to software development services. The notice was published in the Federal Register on December 8, 2010 (75 FR 76488).

At the request of the State of Maine workforce agency, the Department reviewed the certification for workers of the subject firm.

New information shows that worker separations have occurred involving employees of the subject firm who telework from off-site locations throughout the United States. These employees provided various activities related to software development services. Based on these findings, the Department is amending this certification to include employees of the subject firm who telework and report into the Houston, Texas facility.

The intent of the Department's certification is to include all workers of the subject firm who were adversely affected by a shift in software development services to a foreign country.

The amended notice applicable to TA-W-74,540 is hereby issued as follows:

All workers of BMC Software, inc., including on-site leased workers from Comsys ITS, and including remote workers located throughout the United States, Houston, Texas, who became totally or partially separated from employment on or after July 22, 2009 through November 23, 2012, and all workers in the group threatened with total or partial separation from employment on date of certification through two years from the date of certification, are eligible to apply for adjustment assistance under Chapter 2 of Title II of the Trade Act of 1974, as amended.

Signed in Washington, DC, this 28th day of September 2011.
Michael W. Jaffe,
Certifying Officer, Office of Trade Adjustment Assistance.

[FR Doc. 2011-25715 Filed 10-4-11; 8:45 am]

BILLING CODE 4510-FN-P